DEPARTMENT OF ENERGY

Federal Energy Regulatory Commission

[Docket No. PF13-11-000]

CE FLNG, LLC, CE Pipeline, LLC; Notice of Intent To Prepare an Environmental Impact Statement for the Planned CE FLNG Project, Request for Comments on Environmental Issues, and Notice of Public Scoping Meeting

The staff of the Federal Energy Regulatory Commission (FERC or Commission) will prepare an environmental impact statement (EIS) that will discuss the environmental impacts of the CE FLNG Project involving construction and operation of liquefied natural gas (LNG) export, and interstate natural gas transmission pipeline facilities by CE FLNG, LLC and CE Pipeline, LLC (collectively referred to as CE FLNG) in Plaquemines Parish, Louisiana. The Commission will use this EIS in its decision-making process to determine whether to authorize the LNG facilities. The Commission will also use this EIS to help determine whether the pipeline facilities are in the public convenience and necessity.

This notice announces the opening of the scoping process the Commission will use to gather input from the public and interested agencies about the project. Your input will help the Commission's staff determine what issues need to be evaluated in the EIS. Please note that the scoping period will close on January 6, 2014.

Comments about the project may be submitted in writing or verbally. The Public Participation section of this notice describes how to submit written comments. Verbal comments can be provided at the public scoping meeting scheduled as follows: FERC Public Scoping Meeting, CE FLNG Project, Wednesday—December 18, 2013—6:00 p.m., Buras Auditorium, 35619 Highway 11, Buras, Louisiana 70041.

CE FLNG representatives will be available at 5:30 p.m. to provide information and answer questions about the project.

This notice is being sent to the Commission's current environmental mailing list for this project. State and local government representatives should notify their constituents of this project and encourage them to comment about their concerns.

If you are a landowner receiving this notice, a CE FLNG representative may contact you about the acquisition of an easement to construct, operate, and maintain the natural gas transmission pipeline facilities. The company would seek to negotiate a mutually acceptable agreement. However, if the Commission approves the facilities, that approval conveys with it the right of eminent domain. Therefore, if easement negotiations fail to produce an agreement, a condemnation proceeding could be initiated in a federal or state court where compensation would be determined in accordance with state law.

The “For Citizens” section of the FERC Web site (www.ferc.gov) provides more information about the FERC, the environmental review process, and LNG. This section also includes information about getting involved in FERC jurisdictional projects, and a citizens' guide entitled “An Interstate Natural Gas Facility On My Land? What Do I Need to Know?” This guide addresses a number of frequently-asked questions including the use of eminent domain and how to participate in the Commission's proceedings.

Summary of the Planned Project

CE FLNG plans to construct and operate a LNG export terminal, and approximately 37 miles of 42-inch-diameter natural gas transmission pipeline in Plaquemines Parish, Louisiana. The LNG terminal would be located along the east bank of the Mississippi River at approximately mile marker 12.5, northeast of the community of Venice. CE FLNG plans to moor two self-propelled, natural gas liquefaction, storage, and offloading vessels at the terminal. The floating LNG (FLNG) vessels would each be about 1,100 feet long, 180 feet wide, and extend up to 80 feet above the waterline. The FLNG vessels would be capable of producing up to 8 million tons per annum of LNG and storing 250,000 cubic meters of LNG.

Approximately 80 to 130 LNG carriers (LNGC), with cargo capacities ranging from 125,000 to 170,000 cubic meters, would call upon the terminal each year during operation. CE FLNG plans to use tug boats to maneuver the FLNG vessels and LNGCs. During storm events, the vessels could leave the terminal for the Gulf of Mexico. A CE FLNG office would be located at the Venice Port Complex, and the tug boats would operate out of that port.

The planned transmission pipeline would connect the terminal to existing natural gas infrastructure facilities. The northern terminus of the pipeline would connect with a Tennessee Gas Pipeline Company pipeline and the southern pipeline terminus would connect with the Targa Gas Plant and Gulf South Pipeline Company, Texas Eastern Transmission Company, and Columbia Gulf Transmission pipelines.

The general locations of the planned facilities are shown in Appendix 1.¹

¹ The appendices referenced in this notice will not appear in the Federal Register. Copies of the appendices were sent to all those receiving this notice in the mail and are available at www.ferc.gov using the “eLibrary” or from the Commission's Public Reference Room, 888 First Street NE., Washington, DC 20426, (202) 502-8371. For instructions on using eLibrary, refer to the last page of this notice.

Land Requirements

Constructing the LNG terminal along the east bank of the Mississippi River would require dredging approximately 125 acres of wetlands/open water. Additional lands and waters could be impacted by the establishment of safety zones for operation of the LNG terminal and LNGCs calling on the terminal. Any safety zones would be established by the U.S. Coast Guard-New Orleans Sector (Coast Guard) following a review of safety and security issues. CE FLNG is currently evaluating potential sites for dredge material placement. Dredge disposal would be authorized by the U.S. Army Corps of Engineers-New Orleans District (USACOE). Constructing the pipeline would require the temporary use of approximately 900 acres of wetland/open water, and the permanent use of approximately 225 acres of wetland/open water to maintain and operate the pipeline.

The EIS Process

The National Environmental Policy Act (NEPA) requires the Commission to take into account the environmental impacts that could result from an action whenever it considers the issuance of an Order Granting Section 3 Authorization, and a Certificate of Public Convenience and Necessity under Section 7 of the Natural Gas Act (NGA). The NEPA also requires us ² to discover and address concerns the public may have about proposals. This discovery process is commonly referred to as scoping. The main goal of the scoping process is to focus the analysis in the EIS on the important environmental issues. By this notice, the Commission requests public comments on the scope of the issues to be addressed in the EIS. All comments received will be considered during the preparation of the EIS, and addressed as appropriate.

² “We”, “us”, and “our” refer to the environmental staff of the Commission's Office of Energy Projects.

In the EIS we will describe the impacts that could occur as a result of constructing and operating the planned project under these general headings:

• Geology and soils;

• water resources and wetlands;

• vegetation, fisheries and wildlife;

• threatened and endangered species;

• socioeconomics;

• land use and aesthetics;

• cultural resources;

• air quality and noise;

• public safety;

• navigation; and

• cumulative impacts.

We will also evaluate possible alternatives to the project or portions of the project, and make recommendations on how to lessen or avoid impacts on the various resource areas.

Although no formal application has been filed, we have already initiated our NEPA review under the Commission's pre-filing process. The purpose of the pre-filing process is to encourage early involvement of interested stakeholders and to identify and resolve issues before the FERC receives an application. As part of our pre-filing review, we have contacted several federal agencies and will also contact state agencies to discuss their involvement in the scoping process and the preparation of an EIS.

The EIS will present our independent analysis of the issues. We will publish and distribute a draft EIS for public comment. After the comment period, we will consider all timely comments and revise the document, as necessary, before issuing a final EIS. To ensure we have the opportunity to consider and address your comments, please carefully follow the instructions in the Public Participation section below.

The FERC is the lead federal agency in preparing the EIS to satisfy the requirements of the NEPA. With this notice, we are asking agencies with jurisdiction by law and/or special expertise with respect to the environmental issues related to this project to formally cooperate with us in the preparation of the EIS.³ Agencies that would like to request cooperating agency status should follow the instructions for filing comments provided under the Public Participation section of this notice.

³ The Council on Environmental Quality regulations addressing cooperating agency responsibilities are at Title 40, Code of Federal Regulations, 1501.6.

Currently, the U.S. Department of Energy-Office of Fossil Energy (DOE), the USACOE, and the Coast Guard have expressed their intention to participate as cooperating agencies in the preparation of the EIS to satisfy their NEPA responsibilities related to this project. The USACOE has jurisdictional authority pursuant to Section 404 of the Clean Water Act, which governs the discharge of dredged or fill material into waters of the United States, and Section 10 of the Rivers and Harbors Act, which regulates any work or structures that potentially affect the navigability of a waterway. The Coast Guard is the federal agency responsible for determining the suitability of waterways for LNG marine traffic. The Coast Guard exercises regulatory authority over LNG facilities that affect the safety and security of port areas and navigable waterways under Executive Order 10173, the Magnuson Act, the Ports and Waterways Safety Act, and the Maritime Transportation Security Act.

Involvement of U.S. Department of Energy

Under Section 3 of the NGA, the DOE would authorize applications to export natural gas, including LNG, unless it finds that the proposed export would not be consistent with the public interest. The purpose and need for DOE action is to respond to the application filed by CE FLNG on September 21, 2012 with the DOE (FE Docket No. 12-123-LNG), seeking authorization to export 1.07 billion cubic feet per day of domestic natural gas as LNG. CE FLNG requested to export LNG from its proposed terminal in Plaquemines Parish, Louisiana for a 30-year period commencing from the earlier of the date of first export or ten years from the date that the requested authorization was issued to any country: (1) That has, or in the future develops, the capacity to import LNG; and (2) with which trade is not prohibited by U.S. law or policy.

Notice of Floodplain Involvement

Because the planned project would involve actions in floodplains, in accordance with Title 10 of the Code of Federal Regulations, Part 1022, Compliance With Floodplain and Wetland Environmental Review Requirements, the EIS will include a floodplain assessment, as appropriate, and a floodplain statement of findings will be included in any DOE finding of no significant impact.

Consultations Under Section 106 of the National Historic Preservation Act

In accordance with the Advisory Council on Historic Preservation's regulations implementing Section 106 of the National Historic Preservation Act, we are using this notice to initiate consultations with the Louisiana State Historic Preservation Office (SHPO), and to solicit their views and those of other government agencies, interested Indian tribes, and the public on the project's potential effects on historic properties.⁴ Staff will define the project-specific Area of Potential Effects (APE) in consultation with the SHPO as the project is more fully developed. For natural gas projects, the APE usually encompasses all areas subject to ground disturbance (examples include construction right-of-way, contractor/pipe storage yards, access roads, and aboveground facilities). The EIS will document our findings on project-related effects on historic properties and summarize the status of Section 106 consultations.

⁴ The Advisory Council on Historic Preservation regulations are at Title 36, Code of Federal Regulations, Part 800. Those regulations define historic properties as any prehistoric or historic district, site, building, structure, or object included in or eligible for inclusion in the National Register for Historic Places.

Currently Identified Environmental Issues

Based on our preliminary review of the planned facilities and information provided by CE FLNG, we have identified several issues that we think deserve attention. This preliminary list of issues may be changed based on your comments and our ongoing environmental analysis. These issues are:

• Coastal zone management;

• wetland loss;

• dredging and dredge material placement;

• essential fish habitat;

• recreational and commercial fisheries;

• shipping traffic and marine safety;

• visual impacts;

• air quality;

• water use;

• socioeconomics; and

• public safety.

Public Participation

You can make a difference by providing us with your specific comments about the project. Your comments should focus on the potential environmental impacts, reasonable alternatives, and measures to avoid or lessen environmental impacts. The more specific your comments, the more useful they will be. To ensure that your comments are considered in a timely manner and properly recorded, please send your comments so that the Commission receives them in Washington, DC on or before January 6, 2014.

For your convenience, there are three methods you can use to submit your comments to the Commission. In all instances, please reference the project docket number (PF13-11-000) with your submission. The Commission encourages electronic filing of comments and has expert staff available to assist you at (202) 502-8258 or efiling@ferc.gov.

(1) You can file your comments electronically using the eComment feature located on the Commission's Web site (www.ferc.gov) under the Documents and Filings heading. This is an easy method for interested persons to submit brief, text-only comments on a project;

(2) You can also file your comments electronically using the eFiling feature located on the Commission's Web site (www.ferc.gov) under the Documents and Filings heading. With eFiling, you can provide comments in a variety of formats by attaching them as a file with your submission. New eFiling users must first create an account by clicking on “eRegister.” You must select the type of filing you are making. If you are filing a comment on a particular project, please select “Comment on a Filing”; or

(3) You can file a paper copy of your comments by mailing them to the following address: Kimberly D. Bose, Secretary, Federal Energy Regulatory Commission, 888 First Street NE., Room 1A, Washington, DC 20426.

Environmental Mailing List

The environmental mailing list includes federal, state, and local government representatives and agencies; elected officials; environmental and public interest groups; Indian tribes; and local libraries and newspapers. This list also includes affected landowners (as defined in the Commission's regulations) who are potential right-of-way grantors, whose property may be used temporarily for project purposes, or who own homes within certain distances of aboveground facilities, and anyone who submits comments on the project. We will update the environmental mailing list as the analysis proceeds to ensure that we send the information related to this environmental review to all individuals, organizations, and government entities interested in and/or potentially affected by the planned project.

Copies of the draft EIS will be sent to the environmental mailing list for public review and comment. If you would prefer to receive a paper copy of the EIS instead of the compact disc version, or if you would like to remove your name from the mailing list, please return the attached Information Request (Appendix 2).

Becoming an Intervenor

Once CE FLNG files its application with the Commission, you may want to become an “intervenor” which is an official party to the Commission's proceeding. Intervenors play a more formal role in the process and are able to file briefs, appear at hearings, and be heard by the courts if they choose to appeal the Commission's final ruling. An intervenor formally participates in the proceeding by filing a request to intervene. Instructions for becoming an intervenor can be found under the “Getting Involved” heading of the “For Citizens” section on the FERC Web site. Please note that the Commission will not accept requests for intervenor status at this time. You must wait until the Commission receives a formal application for the project.

Additional Information

Additional information about the project is available from the Commission's Office of External Affairs at (866) 208-FERC or on the FERC Web site (www.ferc.gov) using the eLibrary. Click on the eLibrary link, click on “General Search” and enter the docket number, excluding the last three digits (PF13-11). Be sure you have selected an appropriate date range. For assistance, please contact FERC Online Support at FercOnlineSupport@ferc.gov or toll free at (866) 208-3676, or for TTY, contact (202) 502-8659. The eLibrary link also provides access to the texts of formal documents issued by the Commission, such as orders, notices, and rulemakings.

In addition, the Commission offers a free service called eSubscription which allows you to keep track of all formal issuances and submittals in specific dockets. This can reduce the amount of time you spend researching proceedings by automatically providing you with notification of these filings, document summaries, and direct links to the documents. Go to www.ferc.gov/esubscribenow.htm.

Finally, public meetings or site visits will be posted on the Commission's calendar located at www.ferc.gov/EventCalendar/EventsList.aspx along with other related information.

Dated: December 5, 2013.
Kimberly D. Bose,
Secretary.

[FR Doc. 2013-29600 Filed 12-11-13; 8:45 am]

BILLING CODE 6717-01-P